DEPARTMENT OF ENERGY

Federal Energy Regulatory Commission

[Docket No. RP01-28-000]

Mojave Pipeline Company; Notice of Proposed Changes in FERC Gas Tariff

October 6, 2000.

Take notice that on October 4, 2000, Mojave Pipeline Company (Mojave) tendered for filing to its FERC Gas Tariff, Second Revised Volume No. 1, the following tariff sheets, with an effective date of November 4, 2000:

First Revised Sheet No. 242

First Revised Sheet No. 506

Mojave states that the tariff sheets delete Mojave's pro forma Trading Partner Agreement and implement the use of the Gas Industry Standards Board's Model Trading Partner Agreement.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-26287 Filed 10-12-00; 8:45 am]

BILLING CODE 6717-01-M